DEPARTMENT OF LABOR

Employment and Training Administration

[TA-W-55,427]

Alexvale/Kincaid Furniture, a Subsidiary of La-Z-Boy, Administrative Offices, Taylorsville, NC; Notice of Revised Determination on Reopening

On November 9, 2004, the Department, on its own motion, reopened its investigation for the former workers of the subject facility.

The initial investigation for workers of Kincaid Furniture, Taylorsville, North Carolina resulted in a negative determination issued on September 8, 2004 and published in the Federal Register on September 23, 2004 (69 FR 57093). The petition was denied because criterion (1) was not met. The investigation revealed no decline in employment during the relevant time period.

By application of September 23, 2004, a petitioner requested administrative reconsideration of the Department's negative determination regarding eligibility for workers and former workers of the subject facility to apply for Trade Adjustment Assistance (TAA).

On October 27, 2004, the Department issued a Negative Determination Regarding Application for Reconsideration applicable to workers and former workers of the subject facility on the grounds that the application did not contain any new substantial information that would bear importantly on the Department's determination denying certification because the subject facility did not have a “significant number or proportion” of workers who were separated or threatened with separation to meet the requirement of Section 222(a)(1) of the Trade Act of 1974, as amended. The Notice of the determination was published in the Federal Register on November 5, 2004 (69 FR 64592).

Upon further consultation with the petitioner, new information revealed the petitioner intended to apply on behalf of the Administrative Offices supporting production at the subject facility, rather than the facility as a whole.

A company official was contacted in regards to the Administrative Offices at the Taylorsville facility. It was revealed that the workers of the Administrative Offices are separately identifiable from the rest of the workers at the subject facility, and there were significant declines in employment within the Administrative Offices between December 2003 and August 2004.

Furthermore, the Administrative Offices of the subject facility provide accounting, human resources, IT, purchasing, and general clerical support of the production which occurs at the subject facility. Furthermore, production of upholstered furniture at the subject facility declined during the period of January through August 2004, when compared to the same period in 2003. Company imports of upholstered furniture increased during the same period.

It was further revealed that the subject facility was originally a privately owned company known as Alexvale Furniture. The subject facility was purchased by La-Z-Boy, and is now managed by Kincaid Furniture (also a subsidiary of La-Z-Boy). Although the subject facility is now often referred to as a Kincaid facility, the company is registered in the State of North Carolina as Alexvale Furniture, and has a separate employer identification number.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the subject division are age 50 or over and possess skills that are not easily transferable. Competitive conditions within the industry are adverse.

Conclusion

After careful review of the additional facts obtained on reopening, I determine that increases of imports of articles like or directly competitive with upholstered furniture produced by Alexvale/Kincaid Furniture, a subsidiary of La-Z-Boy, Taylorsville, North Carolina, contributed importantly to the total or partial separation of workers from the Administrative Offices of that facility. In accordance with the provisions of the Act, I make the following certification:

“All workers of Alexvale/Kincaid Furniture, a subsidiary of La-Z-Boy, Administrative Offices, Taylorsville, North Carolina, who became totally or partially separated from employment on or after August 11, 2003 through two years from the date of certification are eligible to apply for adjustment assistance under Section 223 of the Trade Act of 1974, and are eligible to apply for alternative trade adjustment assistance under Section 246 of the Trade Act of 1974.”

Signed in Washington, DC, this 29th day of November 2004.
Elliott S. Kushner,
Certifying Officer, Division of Trade Adjustment Assistance.

[FR Doc. 04-28568 Filed 12-29-04; 8:45 am]

BILLING CODE 4510-30-P